FEDERAL FINANCIAL INSTITUTIONS EXAMINATION COUNCIL

[Docket No. AS22-02]

Appraisal Subcommittee; Notice of Meeting; Cancellation

AGENCY: Appraisal Subcommittee of the Federal Financial Institutions Examination Council.

ACTION: Notice of meeting; cancellation.

The Special Meeting, which was published in accordance with Section 1104 (b) of Title XI of the Financial Institutions Reform, Recovery, and Enforcement Act of 1989, as amended, at 87 FR 8840, February 16, 2022 and scheduled for Wednesday, February 23, 2022 at 10:00 a.m. ET, was cancelled.

James R. Park,
Executive Director.

[FR Doc. 2022-04075 Filed 2-25-22; 8:45 am]

BILLING CODE 6700-01-P